DEPARTMENT OF COMMERCE

International Trade Administration

[A-570-836]

Notice of Extension of Time Limit for Final Results of the Antidumping Duty Administrative Review: Glycine from the People's Republic of China

AGENCY: Import Administration, International Trade Administration, Department of Commerce.

EFFECTIVE DATE: August 29, 2008.

FOR FURTHER INFORMATION CONTACT: Erin Begnal or Toni Dach, AD/CVD Operations, Office 9, Import Administration, International Trade Administration, U.S. Department of Commerce, 14th Street and Constitution Avenue, NW, Washington, DC 20230; telephone: (202) 482-1442 and (202) 482-1655, respectively.

SUPPLEMENTARY INFORMATION:

Background

On April 4, 2008, the Department of Commerce (“the Department”) published the preliminary results of the antidumping duty administrative review of glycine from the People's Republic of China, covering the period March 1, 2006, through February 28, 2007. See Glycine from the People's Republic of China: Preliminary Results of Antidumping Duty Administrative Review and Partial Rescission, 73 FR 18503 (April 4, 2008). On July 15, 2008, the Department published a notice extending the time limit for the final results of this review by 30 days. See Notice of Extension of Time Limit for Final Results of the Antidumping Duty Administrative Review: Glycine from the People's Republic of China, 73 FR 40480 (July 15, 2008).

Extension of Time Limits for Final Results

Pursuant to section 751(a)(3)(A) of the Tariff Act of 1930, as amended (“the Act”), and section 351.213(h)(1) of the Department's regulations, the Department shall issue the preliminary results of an administrative review within 245 days after the last day of the anniversary month of the date of publication of the order. The Act and the regulations further provide that the Department shall issue the final results of review within 120 days after the date on which the notice of the preliminary results was published in the Federal Register. See section 751(a)(3)(A) of the Act and section 351.213(h)(1) of the Department's regulations. However, if the Department determines that it is not practicable to complete the review within this time period, section 751(a)(3)(A) of the Act and section 351.213(h)(2) of the Department's regulations allow the Department to extend the 245-day period to 365 days and the 120-day period to 180 days.

On April 30, 2008, the Department extended the deadlines for parties to submit case briefs and rebuttal briefs. As a result of these extensions and to allow the Department additional time to analyze issues raised in the case briefs and rebuttal briefs, the Department has determined that it is not practicable to complete the administrative review within the current time limit.

Section 751(a)(3)(A) of the Act and section 351.213(h)(2) of the Department's regulations allow the Department to extend the deadline for the final results of a review to a maximum of 180 days from the date on which the notice of the preliminary results was published. For the reasons noted above, the Department is extending the time limit for the completion of these final results by an additional 17 days, from the current deadline of September 2, 2008, until no later than September 19, 2008.

This notice is issued and published in accordance with sections 751(a)(3)(A) and 777(i) of the Act.

Dated: August 25, 2008.
Stephen J. Claeys,
Deputy Assistant Secretary for Import Administration.

[FR Doc. E8-20155 Filed 8-28-08; 8:45 am]

BILLING CODE 3510-DS-S